Presidential Determination No. 2005-12 of December 10, 2004

Presidential Determination to Waive the Application of Section 901(j) of the Internal Revenue Code With Respect to Libya

Memorandum for the Secretary of the Treasury

By virtue of the authority vested in me by the Constitution and the laws of the United States, including section 901(j)(5) of the Internal Revenue Code (the “Code”), I hereby waive the application of section 901(j)(1) of the Code with respect to Libya.

I hereby authorize and direct you to arrange for publication of this determination in the Federal Register.

B

THE WHITE HOUSE,

Washington, December 10, 2004.

[FR Doc. 05-515

Filed 1-7-05; 8:45 am]

Billing code 4810-31-P